ENVIRONMENTAL PROTECTION AGENCY

40 CFR Part 52

[EPA-R06-OAR-2013-0804; FRL-9921-84-Region 6]

Approval and Promulgation of Implementation Plans; Texas; Reasonably Available Control Technology for the 1997 8-Hour Ozone National Ambient Air Quality Standard

AGENCY: Environmental Protection Agency (EPA).

ACTION: Proposed rule.

SUMMARY: The Environmental Protection Agency (EPA) is proposing to approve revisions to the Texas State Implementation Plan (SIP) for the Houston/Galveston/Brazoria (HGB), and Dallas Fort Worth (DFW) 1997 8-Hour ozone nonattainment areas. The HGB area consists of Brazoria, Chambers, Fort Bend, Galveston, Harris, Liberty, Montgomery and Waller counties. The DFW area consists of Collin, Dallas, Denton, Ellis, Johnson, Kaufman, Parker, Rockwall, and Tarrant counties. Specifically, we are proposing to approve portions of multiple revisions to the Texas SIP submitted by the Texas Commission on Environmental Quality (TCEQ) as meeting Reasonably Available Control Technology (RACT) requirements. The RACT requirements apply to sources of Volatile Organic Compounds (VOC) and Oxides of Nitrogen (NOX) in these areas. This action is in accordance with the federal Clean Air Act (the Act, CAA).

DATES: Comments must be received on or before February 20, 2015.

ADDRESSES: Submit your comments, identified by Docket No. EPA-R06-OAR-2013-0804, by one of the following methods:

• www.regulations.gov. Follow the on-line instructions for submitting comments.

• Email: Alan Shar at shar.alan@epa.gov.

• Mail or delivery: Air Planning Section Chief (6PD-L), Environmental Protection Agency, 1445 Ross Avenue, Suite 1200, Dallas, Texas 75202-2733.

Instructions: Direct your comments to Docket ID No. EPA-R06-OAR-2013-0804. The EPA's policy is that all comments received will be included in the public docket without change and may be made available online at www.regulations.gov, including any personal information provided, unless the comment includes information claimed to be Confidential Business Information (CBI) or other information the disclosure of which is restricted by statute. Do not submit information through www.regulations.gov or email that you consider to be CBI or otherwise protected from disclosure. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses. For additional information about EPA's public docket, visit the EPA Docket Center homepage at http://www.epa.gov/epahome/dockets.htm.

Docket: The index to the docket for this action is available electronically at www.regulations.gov and in hard copy at EPA Region 6, 1445 Ross Avenue, Suite 700, Dallas, Texas 75202-2733. While all documents in the docket are listed in the index, some information may be publicly available only at the hard copy location (e.g., copyrighted material), and some may not be publicly available at either location (e.g., CBI). To inspect the hard copy materials, please schedule an appointment with the person listed in the FOR FURTHER INFORMATION CONTACT paragraph below.

FOR FURTHER INFORMATION CONTACT: Mr. Alan Shar (6PD-L), telephone (214) 665-6691, email shar.alan@epa.gov.

SUPPLEMENTARY INFORMATION: Throughout this document “we,” “us,” and “our” refer to EPA.

Outline

I. Background

A. What actions are we proposing?

B. What is RACT?

II. Evaluation

A. What is TCEQ's approach and analysis to RACT?

B. What Control Techniques Guidelines (CTG) source categories are we addressing in this action?

C. Are there negative declarations for sources of emissions within these nonattainment areas?

D. Is Texas' approach to RACT determination for VOC sources based on their submittals acceptable?

E. Is Texas' approach to RACT determination for NOX sources based on their submittals acceptable?

III. Proposed Action

IV. Statutory and Executive Order Reviews

I. Background

A. What actions are we proposing?

We are proposing to approve multiple revisions, in whole or in part, to the Texas SIP submitted to EPA as follows: The RACT-related rule revisions dated December 6, 2013, January 17, 2012, and June 13, 2007, as well as the RACT analysis portions of attainment demonstration plans of January 17, 2012, April 6, 2010, and June 13, 2007 for the DFW and HGB areas.

The December 6, 2013 submittal concerns rule revisions to 30 TAC, Chapter 115 Control of Air Pollution from Volatile Organic Compounds for solvent using processes and surface coating application systems. We are proposing to approve all of this submittal.

The January 17, 2012 submittal concerns rule revisions to 30 TAC, Chapter 115 Control of Air Pollution from Volatile Organic Compounds intended to implement RACT for both HGB and DFW areas. The submittal will limit VOC content of coatings and solvents used in Flexible Package Printing, Industrial Cleaning Solvents, Large Appliance Coatings, Metal Furniture Coatings, Paper, Film, and Foil Coatings, Miscellaneous Industrial Adhesives, Automobile and Light-Duty Truck Assembly Coatings, and Miscellaneous Metal and Plastic Parts Coatings operations. We are proposing to approve all of this submittal.

Another submittal also dated January 17, 2012 contains a corresponding analysis to demonstrate RACT is in place for multiple source categories in the HGB area. We are proposing to approve that RACT is in place for the source categories listed in the paragraph above, and we are proposing to approve the Flexographic and Rotogravure Printing sector for the HGB area of the RACT-related rule revisions which had not been previously approved.

A third SIP submittal dated January 17, 2012 contains RACT analysis for the DFW area. As a result of this submittal, and consistent with section 182(c) of the Act, the VOC or NOX major source threshold in the DFW area is lowered to 50 Tons Per Year (TPY) from 100 TPY for RACT purposes under the 1997 8-Hour ozone standard. See EPA-R06-OAR-2012-0098 (TCEQ Rule Project No. 2010-022-SIP-NR) at www.regulations.gov. We are proposing to approve the RACT analysis portion of this submittal.

The April 6, 2010 attainment demonstration submittal, among other things, concerns revisions to 30 TAC, Chapter 115 Control of Air Pollution from Volatile Organic Compounds for control of ozone pollution in the HGB area. Appendix D of this attainment demonstration plan is titled “Reasonably Available Control Technology Analysis,” and includes source categories affected by the newly EPA-issued Control Techniques Guidelines (CTGs), and NOX emissions sources. We are proposing to approve the RACT analysis portion of this submittal.

The June 13, 2007 attainment demonstration submittal concerns revisions to 30 TAC, Chapter 115 Control of Air Pollution from Volatile Organic Compounds. The June 13, 2007 submittal included an analysis intended to demonstrate RACT was being implemented in the HGB area as required by the CAA (Appendix B of the submittal). We are proposing to approve the RACT analysis portion of this submittal.

We are proposing to approve the above-mentioned revisions, as well as confirm the RACT finding for revisions previously approved for Texas, into the Texas SIP.

In consideration of the above proposed actions and RACT rule revisions previously approved for Texas, taken together, we are proposing to approve Texas' RACT analysis as meeting the RACT requirements for all affected VOC and NOX sources for the DFW and HGB areas for the 1997 8-Hour ozone standard.

B. What is RACT?

The EPA has defined RACT as the lowest emissions limitation that a particular source is capable of meeting by the application of control technology that is reasonably available, considering technological and economic feasibility. See September 17, 1979 (44 FR 53761). Section 172(c)(1) of the Act requires that SIPs for nonattainment areas “provide for the implementation of all reasonably available control measures as expeditiously as practicable (including such reductions in emissions from existing sources in the area as may be obtained through the adoption, at a minimum, of reasonably available control technology) and shall provide for attainment of the primary National Ambient Air Quality (NAAQS) standards.”

Section 182(b)(2) of the Act requires states to submit a SIP revision and implement RACT for moderate and above ozone nonattainment areas. For a Moderate, Serious, or Severe area a major stationary source is one which emits, or has the potential to emit, 100, 50, or 25 tons per year (tpy) or more of VOCs or NOX, respectively. See CAA sections 182(b), 182(c), and 182(d). The EPA provides states with guidance concerning what types of controls could constitute RACT for a given source category through the issuance of CTG and Alternative Control Techniques (ACT) documents. See http://www.epa.gov/airquality/ozonepollution/SIPToolkit/ctgs.html (URL dating May 13, 2014) for a listing of EPA-issued CTGs and ACTs.

The HGB area was designated as Severe for the 1997 8-Hour ozone NAAQS. See October 1, 2008 (73 FR 56983). Thus, per section 182(d) of the CAA, a major stationary source in the HGB area is one which emits, or has the potential to emit, 25 tpy or more of VOCs or NOX. Under section 182(b), the SIP for the HGB area must implement RACT for source categories covered by CTGs, and for major sources with a potential to emit of 25 tpy or more not covered by a CTG. See the two January 17, 2012 submittals, and the December 6, 2013 submittal.

Effective June 15, 2004, Collin, Dallas, Denton, Tarrant, Ellis, Johnson, Kaufman, Parker, and Rockwall counties were designated nonattainment for the 1997 8-Hour ozone standard. The area was classified as Moderate nonattainment for the standard, with an attainment deadline of June 15, 2010. See January 14, 2009 (74 FR 1903). The area was reclassified to Serious on December 20, 2010 (75 FR 79302) because it failed to attain the standard by its attainment deadline of June 15, 2010. Thus, per section 182(c) of the CAA, a major stationary source in the DFW area is one which emits, or has the potential to emit, 50 tpy or more of VOCs or NOX.

Under section 183(b), EPA is required to periodically review and, as necessary, update CTGs. The EPA issued a number of new CTGs in 2006, 2007, and 2008. See section II(B) of this document. Accordingly, Texas revised its Chapter 115 regulations to address these VOC RACT control measures. See the December 6, 2013, and January 17, 2012 submittals. Also, see Appendix A of the Technical Support Document (TSD) prepared in conjunction with this rulemaking action for more information.

II. Evaluation

A. What is TCEQ's approach and analysis to RACT?

Texas revised its rules because under sections 182(b)(2)(A) and (B) states must insure RACT is in place for each source category for which EPA issued a CTG, and for any major source not covered by a CTG. As a part of its January 17, 2012 submittals TCEQ conducted RACT analyses to demonstrate that the RACT requirements for CTG sources in the HGB and DFW 1997 8-Hour ozone nonattainment areas have been fulfilled; the TCEQ revised and supplemented these analyses for the HGB and DFW areas in its December 6, 2013 submittal. The TCEQ conducted its RACT analysis for VOC and NOX by: 1) Identifying all categories of CTG and major non-CTG sources of VOC emissions within the HGB and DFW areas; 2) Listing the state regulation that implements or exceeds RACT requirements for that CTG or non-CTG category; 3) Detailing the basis for concluding that these regulations fulfill RACT through comparison with established RACT requirements described in the CTG guidance documents and rules developed by other state and local agencies; and 4) Submitting negative declarations when there are no CTG or major Non-CTG sources of VOC emissions within the HGB or DFW areas. Accordingly, we are proposing that TCEQ's submittals for all affected VOC sources in the HGB and DFW areas provide for the implementation of RACT.

On October 5, 2005 (70 FR 58136), and September 6, 2006 (71 FR 52676) we approved RACT for all affected VOC and NOX sources for the HGB area for the 1-Hour ozone NAAQS.

B. What Control Techniques Guidelines (CTG) source categories are we addressing in this action?

In prior actions for both the HGB and DFW areas for the 1997 8-Hour ozone NAAQS, we approved several SIP revisions as meeting RACT.

Under the 1997 8-hour ozone NAAQS, for the HGB area, we approved SIP revisions as meeting RACT for all CTG source categories, and major Non-CTG VOC sources, except for the 2006-2008 EPA-issued CTG series, in the HGB area (designated as Severe) on April 2, 2013 (78 FR 19599), and April 15, 2014 (79 FR 21144). Furthermore, we approved revisions to 30 TAC Chapter 117 as meeting RACT for emissions sources of NOX in the HGB area (designated as Severe). See April 2, 2013 (78 FR 19599).

As a part of DFW ozone attainment demonstration plan we approved VOC RACT for the DFW designated as Moderate area. See January 14, 2009 (74 FR 1903).

In this action, we are addressing additional source categories affected by the newly EPA-issued CTGs for HGB (designated as Severe) and DFW (designated as Serious) areas for the 1997 8-Hour ozone NAAQS, as well as proposing to approve Texas' updated RACT analysis for the remaining source categories in the DFW area.

Table 1 below contains a list of CTG source categories, EPA reference documents, and the corresponding sections of 30 TAC Chapter 115 that fulfill the applicable RACT requirements for these newly EPA-issued CTGs.

Table 1—CTG Source Categories Issued by EPA in 2006-2008, EPA Reference Documents, and Corresponding Section of 30 TAC Chapter 115 Fulfilling RACT
CTG Category | EPA Reference documents | 30 TAC Chapter 115 fulfilling RACT
Flat Wood Paneling Coatings | Control Techniques Guidelines for Flat Wood Paneling Coatings, (EPA-453/R-06-004-2006/09) | Negative Declarations in DFW and HGB.
Flexible Packaging Printing Materials | Control Techniques Guidelines for Flexible Package Printing, (EPA-453/R-06-003-2006/09) | Sections 115.430-115.439.
Industrial Cleaning Solvents | Control Techniques Guidelines for Industrial Cleaning Solvents, (EPA-453/R-06-001-2006/09) | Sections 115.460-115.469.
Offset Lithographic and Letterpress Printing | Control Techniques Guidelines for Offset Lithographic Printing and Letterpress Printing, (EPA-453/R-06-002-2006/09) | Sections 115.440-115.449 for Offset Lithographic Printing; Negative Declarations for Letterpress Printing in HGB and DFW.
Large Appliance Coatings | Control Techniques Guidelines for Large Appliance Coatings, (EPA 453/R-07-004-2007/09) | Sections 115.450-115.459.
Metal Furniture Coatings | Control Techniques Guidelines for Metal Furniture Coatings, (EPA 453/R-07-005-2007/09) | Sections 115.450-115.459.
Paper, Film, and Foil Coatings | Control Techniques Guidelines for Paper, Film, and Foil Coatings, (EPA 453/R-07-003-2007/09) | Sections 115.420-115.429; and 115.450-115.459.
Auto and Light-Duty Truck Assembly Coatings | Control Techniques Guidelines for Automobile and Light-Duty Truck Assembly Coatings, (EPA 453/R-08-006-2008/09) | Negative Declaration in HGB; Sections 115.450-115.459 in DFW.
Fiberglass Boat Manufacturing Materials | Control Techniques Guidelines for Fiberglass Boat Manufacturing Materials, (EPA 453/R-08-004-2008/09) | Negative Declarations in DFW and HGB.
Miscellaneous Industrial Adhesives | Group IV Issued by EPA in 2008, Control Techniques Guidelines for Miscellaneous Industrial Adhesives, (EPA 453/R-08-005-2008/09) | Sections 115.470-115.479.
Miscellaneous Metal and Plastic Parts Coatings | Control Techniques Guidelines for Miscellaneous Metal and Plastic Parts Coatings, (EPA 453/R-08-003-2008/09) | Sections 115.450-115.459.

The Flexographic and Rotogravure Printing sector was not specifically identified in the April 15, 2014 (79 FR 21144) rulemaking action for the HGB area. The 30 TAC Chapter 115 sections 430 through 439 fulfill the VOC control requirements for this particular sector. For a section-by-section evaluation of this sector see part 1 of the TSD. We are proposing to approve the VOC RACT for the Flexographic and Rotogravure Printing operations in the HGB area.

On August 4, 2014 (79 FR 45105) we approved RACT for the Offset Lithographic Printing Operations in the DFW (Serious) and HGB (Severe) areas. Also, see docket No. EPA-R06-OAR-2010-0332 at www.regulations.gov.

On September 9, 2014 (79 FR 53299) we approved revisions to 30 TAC Chapter 115 for control of VOC emissions for storage tanks in the DFW and HGB areas. In that rulemaking action, we also found that VOC control requirements for the VOC storage tanks source category in the DFW (Serious) and HGB (Severe) areas represent RACT. See docket No. EPA-R06-OAR-2012-0096 at www.regulations.gov.

C. Are there negative declarations for sources of emissions within these nonattainment areas?

Yes, there are negative declarations associated with the VOC source categories in the DFW and HGB areas.

For the DFW area, Texas has declared that there are no fiberglass boat manufacturing materials, ship building and ship repair coating, leather tanning and finishing, surface coating for flat wood paneling, vegetable oil manufacturing, plywood veneer dryers, rubber tire manufacturing, and batch processes operations. We are proposing to approve the VOC RACT negative declaration for these operations in the DFW area. As such, TCEQ does not have to adopt VOC regulations relevant to these source categories at this time for the DFW area. However, if a major source of these categories locates in the DFW area in future, then TCEQ will need to take appropriate regulatory measures.

For the HGB area, on April 15, 2014 (79 FR 21144), we approved the VOC RACT negative declarations for fiberglass boat manufacturing materials, leather tanning and finishing, surface coating for flat wood paneling, letterpress printing, automobile and light-duty truck assembly coating, rubber tire manufacturing, and vegetable oil manufacturing operations. Also, see 40 CFR 52.2270(e).

D. Is Texas' approach to RACT determination for VOC sources based on their submittals acceptable?

Yes, Texas' approach to RACT determination for VOC sources based on their submittals is acceptable. In the TSD developed for this rulemaking action, we evaluated the corresponding sections of 30 TAC Chapter 115 for the source categories identified in Table 1 above in the HGB and DFW areas, and have reviewed these sections against our identified reference documents. In their submittals to EPA, TCEQ states that it has reviewed the HGB and DFW VOC rules and certifies that they satisfy RACT requirements for the 1997 8-Hour ozone standard by the application of control technology that is reasonably available considering technological and economic feasibility. With their submittals TCEQ revised sections 115.422, 115.427, 115.429, 115.430, 115.432, 115.433, 115.435, 115.436, and 115.439; repealed section 115.437; and adopted new sections 115.431, 115.450, 115.451, 115.453-115.455, 115.458-115.461, 115.463-115.465, 115.468-115.471, 115.473-115.475, 115.478, and 115.479. For a section-by-section review of the RACT-related provisions see parts 1 and 3 of the TSD.

Under the RACT requirements for the 8-hour ozone NAAQS States must assure that RACT is met, either through a certification that previously required RACT controls represent RACT for 8-hour implementation purposes, or through a new RACT determination. States may use existing EPA guidance in making RACT determinations. See 70 FR 71617 (November 29, 2005). Texas submitted a RACT assessment with its SIP revisions, and evaluated its existing RACT regulations to ascertain whether these regulations constitute RACT for the new 8-hour ozone NAAQS. Texas' 8-Hour ozone RACT SIP submittals are based on the determination that RACT has been met either through a certification that previously required RACT controls for the 1-hour ozone standard represent RACT for 8-hour ozone implementation purposes or, where necessary, through a new RACT evaluation for certain regulations or sources. Therefore, we are proposing a determination that Texas rules meet the CAA's RACT requirements for the 1997 8-Hour ozone NAAQS for both the HGB and DFW areas. This determination is based on the November 29, 2005 (70 FR 71612) rulemaking, regarding permissible approaches for determining whether a State's level of control meets RACT, in which EPA provided guidance that a State's certification of its rules is sufficient or acceptable for a finding that the rules satisfy the RACT requirements for the 8-hour implementation purposes; the framework described in our TSD; and section B (Certifications) of EPA's May 18, 2006 RACT Q and A document that provides additional clarifications for the RACT SIPs. See pages 4-5 of the May 18, 2006 guidance document. Consequently, by implementing these control requirements (Chapter 115) Texas is satisfying the RACT requirements for all affected VOC sources, including the CTG source categories identified in Tables 1 of this document, in the HGB and DFW areas under the 1997 8-Hour ozone standard.

E. Is Texas' approach to RACT determination for NOX sources based on their submittals acceptable?

Yes, Texas' approach to RACT determination for NOX sources based on their submittals is acceptable. The purpose of 30 TAC Chapter 117 rules for the DFW area is to establish reasonable controls on the emissions of ozone precursors. Texas has one of the most stringent NOX control requirements designed for ozone attainment reasons in the country. Texas has reviewed its NOX rules and has certified that its rules satisfy RACT requirements. According to the framework, certification, and the approach described in section D above we are proposing to find that Texas has RACT-level controls in place for all affected NOX sources in the DFW area (Moderate and Serious) under the 1997 8-Hour ozone standard. See part 4 of the TSD for more information.

We approved that Texas has RACT-level controls in place for all affected NOX sources in the HGB area on April 2, 2013 (78 FR 19599). Also, see 40 CFR 52. 2270(e).

Taken together, we are proposing to find Texas has RACT-level controls in place for all affected VOC and NOX sources in the HGB and DFW areas under the 1997 8-Hour ozone standard.

III. Proposed Action

We are proposing to approve rule revisions to sections 30 TAC chapter 115.422, 115.427, 115.429, 115.430, 115.432, 115.433, 115.435, 115.436, and 115.439 implementing controls on the source categories of Table 1 of this action.

We are proposing to approve new sections 30 TAC chapter 115.431, 115.450, 115.451, 115.453-115.455, 115.458-115.461, 115.463-115.465, 115.468-115.471, 115.473-115.475, 115.478, and 115.479 implementing controls on the source categories of Table 1 of this action.

We are proposing to approve repeal of section 30 TAC chapter 115.437.

We are proposing to find that for VOC CTG categories identified in Table 1 Texas has RACT-level controls in place for the HGB and DFW areas under the 1997 8-Hour ozone standard.

We are proposing to find that Texas has RACT-level controls in place for the Flexographic and Rotogravure Printing operations for the HGB area.

We are proposing to approve the negative declarations as explained in section II(C) of this action.

We are proposing to approve NOX RACT for the DFW area under the 1997 8-Hour ozone standard.

In consideration of the rule revisions proposed for approval in this action, as well as the rule revisions previously approved, taken together, we are proposing that with its rules in 30 TAC Chapters 115, and 117 Texas is implementing RACT for all affected VOC and NOX sources in the HGB and DFW areas under the 1997 8-Hour ozone standard.

We are proposing to approve these revisions in accordance with sections 110, 182, and 183 of the federal CAA.

The EPA had previously approved RACT for all affected NOX sources for the HGB area under the 1997 8-Hour ozone standard.

The EPA had previously approved RACT for all affected VOC and NOX sources into Texas' SIP under the 1-Hour ozone standard.

IV. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this proposed action approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act;

• does not provide EPA with the discretionary authority to address, as appropriate, disproportionate human health or environmental effects, using practicable and legally permissible methods, under Executive Order 12898 (59 FR 7629, February 16, 1994); and

• is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

Authority: 42 U.S.C. 7401 et seq.

List of Subjects in 40 CFR Part 52

Environmental protection, Air pollution control, Hydrocarbons, Incorporation by reference, Intergovernmental relations, Reporting and recordkeeping requirements, Volatile organic compounds.

Dated: January 9, 2015.
Ron Curry,
Regional Administrator, Region 6.

[FR Doc. 2015-00866 Filed 1-20-15; 8:45 am]

BILLING CODE 6560-50-P